DEPARTMENT OF HEALTH AND HUMAN SERVICES

National Institutes of Health

Office of Biotechnology Activities, Office of Science Policy, Office of the Director

Amended Notice of Meeting

Notice is hereby given of a change in the meeting of the National Science Advisory Board for Biosecurity (NSABB), February 10, 2011, 8:30 a.m., National Institutes of Health, Building, 31, Center Drive, Conference Room 6, Bethesda, MD 20892 which was published in the Federal Register on January 21, 2011, 76 FR3918.

The meeting is canceled until further notice.

Dated: January 25, 2011.
Jennifer S. Spaeth,
Director, Office of Federal Advisory Committee Policy.

[FR Doc. 2011-2022 Filed 1-28-11; 8:45 am]

BILLING CODE 4140-01-P